DEPARTMENT OF THE INTERIOR

Fish and Wildlife Service

50 CFR Chapter I

[Docket No. FWS-HQ-NWRS-2023-0024; FXRS12610900000-245-FF09R25000]

National Wildlife Refuge System Planning Policies (602 FW 1-4) for the U.S. Fish and Wildlife Service

AGENCY: Fish and Wildlife Service, Interior.

ACTION: Notification of final policies.

SUMMARY: We, the U.S. Fish and Wildlife Service (Service), announce the updated planning policies, 602 FW 1-4, for the National Wildlife Refuge System (Refuge System). The purpose of the policy revisions is to update the Refuge System's refuge management by incorporating landscape conservation plans and consideration of climate change and other anthropogenic forces in refuge management.

DATES: The policies were effective April 1, 2024.

ADDRESSES: The revised planning policies are available at https://www.fws.gov/policy-library/manuals/land-use-and-management-series/refuge-management/refuge-planning.

FOR FURTHER INFORMATION CONTACT: Julie Henning, Chief, Branch of Conservation Planning and Policy, National Wildlife Refuge System, via email at julie_henning@fws.gov, by telephone at (703) 358-1945, or by mail at U.S. Fish and Wildlife Service, c/o Julie Henning, 5275 Leesburg Pike, Falls Church, VA 22041-3803. Individuals in the United States who are deaf, deafblind, hard of hearing, or have a speech disability may dial 711 (TTY, TDD, or TeleBraille) to access telecommunications relay services. Individuals outside the United States should use the relay services offered within their country to make international calls to the point of contact in the United States.

SUPPLEMENTARY INFORMATION:

Introduction

We are announcing the availability of four updated National Wildlife Refuge System (Refuge System) planning policies. The purpose of the policy revisions is to update the Refuge System's refuge management by incorporating landscape conservation planning and design and consideration of climate change and other anthropogenic forces in refuge management. The Refuge System's authority for these policies comes from the Refuge System Administration Act of 1966, as amended by the Refuge System Improvement Act of 1997 (Administration Act; 16 U.S.C. 668dd-668ee). These final policies are incorporated in part 602 of the U.S. Fish and Wildlife Service (Service) Manual, and replace the outdated policies at 602 FW 1, 3, and 4, published in 2000. Service Manual chapter 602 FW 2 replaces 341 FW 1 and 2, both published in 1996.

Contents of Final Policies

Refuge planning sets the broad vision for refuge management and determines goals, objectives, strategies, and actions to ensure refuges are managed consistently with a refuge's purposes; the Refuge System's mission and goals; the Administration Act, as amended; the Alaska National Interest Lands Conservation Act (for Alaska refuges); and all other applicable laws and regulations. The four planning policies the Service updated are: Refuge Planning Overview (602 FW 1), Land Protection Planning (602 FW 2), Comprehensive Conservation Planning (602 FW 3), and Step-down Planning (602 FW 4).

• 602 FW 1, Refuge Planning Overview, describes the Service's overall policy and goals for refuge planning and how the Refuge System incorporates climate adaptation and resiliency into refuge planning. The policy also describes how the Refuge System coordinates with Federal, State, and local agencies; Tribes; Alaska Native Corporations (ANCs); Alaska Native Organizations (ANOs); the Native Hawaiian Community; territories; and other partners and stakeholders in refuge planning.

• 602 FW 2, Land Protection Planning, describes the Service's overall policy and goals for land protection planning and establishes who is responsible for different steps of the process. The policy provides an overview of the Service's land protection planning process, including coordination with partners, land acquisition, and minor and major refuge boundary modifications.

• 602 FW 3, Comprehensive Conservation Planning, describes the Service's overall policy and goals for comprehensive conservation planning, and establishes who is responsible for different steps of the process. The policy provides an overview of the requirements for developing comprehensive conservation plans (CCP), including CCPs for new refuges; CCP scope and content; and coordination with partners. Finally, it provides guidance for reviewing and updating CCPs.

• 602 FW 4, Step-down Planning, describes the Service's overall policy and goals for step-down planning, and establishes who is responsible for different steps of the process. The policy provides an overview of the requirements for developing step-down plans, including how they are integrated with CCPs; consideration of the National Environmental Policy Act; and coordination with partners. Finally, it provides guidance for reviewing and updating step-down plans.

Background and Development of Policies

Many of the planning and natural resource regulations and policies guiding the Refuge System were developed following passage of the Improvement Act more than 20 years ago. Much has changed since then, and there is a need to consider climate change and other anthropogenic forces more explicitly and effectively in Refuge System management. The Service must also incorporate landscape planning and design into its planning policies. These are just a few of the drivers that led to convening five chartered national Service teams to update existing or develop new natural resource regulations, policies, and handbooks for the Refuge System. The Service's Conservation Planning team is comprised of Service planning subject matter experts from across the agency's Regions.

Public Engagement

At draft stage, these policy updates were distributed for internal Service review throughout all Regions and programs in August 2022. We provided an opportunity for State engagement through the Association of Fish and Wildlife Agencies in February 2023. Additionally, we hosted national webinars and provided opportunity for engagement by Tribal leaders, ANCs, ANOs, and the Native Hawaiian Community in February 2023. In September 2023, we made the draft policies available for public comment for 30 days via a Federal Register notification (September 15, 2023; 88 FR 63547). We incorporated feedback received from these partners, stakeholders, and the public.

Authority

The authority for this action is the National Wildlife Refuge System Administration Act of 1966, as amended by the National Wildlife Refuge System Improvement Act of 1997 (16 U.S.C. 668dd-668ee).

Martha Williams,
Director, U.S. Fish and Wildlife Service.

[FR Doc. 2024-07265 Filed 4-17-24; 8:45 am]

BILLING CODE 4333-15-P